SECURITIES AND EXCHANGE COMMISSION

[Release No. 34-68084A; File No. SR-FINRA-2012-042]

Self-Regulatory Organizations; Financial Industry Regulatory Authority, Inc.; Order Granting Approval of Proposed Rule Change Relating to Post-Trade Transparency for Agency Pass-Through Mortgage-Backed Securities Traded in Specified Pool Transactions and SBA-Backed Asset-Backed Securities Transactions; Correction

October 31, 2012.

AGENCY: Securities and Exchange Commission.

ACTION: Order; correction.

SUMMARY: The Securities and Exchange Commission published a document in the Federal Register on October 26, 2012, concerning an Order Granting Approval of Proposed Rule Change Relating to Post-Trade Transparency for Agency Pass-Through Mortgage-Backed Securities Traded in Specified Pool Transactions and SBA-Backed Asset-Backed Securities Transactions. The document contained a typographical error.

FOR FURTHER INFORMATION CONTACT: Michael P. Bradley, Division of Trading and Markets, Securities and Exchange Commission, 100 F Street NE., Washington, DC 20549, (202) 551-5594.

Correction

In the Federal Register of October 26, 2012 in FR Doc. 2012-65436, on page 65437, in the seventh line in the paragraph under the heading “Regulatory Notice” in the second column, correct the reference to 180 days instead to 270 days.

Dated: October 31, 2012.
Kevin M. O'Neill,
Deputy Secretary.

[FR Doc. 2012-27081 Filed 11-6-12; 8:45 am]

BILLING CODE 8011-01-P